DEPARTMENT OF THE INTERIOR

Bureau of Ocean Energy Management

[Docket No. BOEM-2022-0041]

Research Lease on the Outer Continental Shelf (OCS) in the Gulf of Maine, Request for Competitive Interest (RFCI)

AGENCY: Bureau of Ocean Energy Management (BOEM), Interior.

ACTION: Requests for competitive interest and public comment.

SUMMARY: This notice describes the State of Maine's proposal for an OCS lease in the Gulf of Maine to conduct wind energy research activities; invites indications of interest in acquiring a commercial wind energy lease within an area of approximately 68,320 acres identified in the “Description of the RFCI Area” section of this notice, which includes the area identified by Maine (hereinafter, the “RFCI Area”); and solicits public input regarding Maine's proposal, the potential for commercial leasing in the RFCI Area, the potential resultant environmental impacts, and other uses of the area.

DATES: Submissions indicating your interest in acquiring a commercial wind energy lease within the RFCI Area, as well as all other comments and information, must be received by BOEM no later than October 3, 2022. BOEM may not consider late submissions.

ADDRESSES: Please submit indications of interest in acquiring a commercial wind energy lease within the RFCI Area electronically via email to renewableenergy@boem.gov or hard copy by mail to the following address: Zachary Jylkka, Bureau of Ocean Energy Management, Office of Renewable Energy Programs, 45600 Woodland Road, Mailstop: VAM-OREP, Sterling, VA 20166. If you elect to mail a hard copy, also include an electronic copy on a portable storage device.

Please submit comments or other information concerning research or commercial activities within the RFCI Area by either of the following two methods:

1. Federal eRulemaking Portal: http://www.regulations.gov. In the entry entitled, “Enter Keyword or ID,” enter BOEM-2022-0041 and then click “search.” Follow the instructions to submit public comments and view supporting and related materials available for this notice.

2. By mail to the following address: Bureau of Ocean Energy Management, Office of Renewable Energy Programs, 45600 Woodland Road, Mailstop: VAM-OREP, Sterling, VA 20166.

Treatment of confidential information is addressed in the section of this notice entitled “Protection of Privileged or Confidential Information.” BOEM will post all comments on regulations.gov unless labeled as confidential.

FOR FURTHER INFORMATION CONTACT: Zachary Jylkka, BOEM Office of Renewable Energy Programs, 45600 Woodland Road, VAM-OREP, Sterling, Virginia 20166, (978) 491-7732, or zachary.jylkka@boem.gov.

SUPPLEMENTARY INFORMATION: If you are interested in acquiring a commercial wind energy lease within the RFCI Area, you should submit detailed and specific information as described in the section of this notice entitled “Required Information for Indication of Competitive Interest.” BOEM will list on its website the parties that submit indications of competitive interest within the RFCI Area after BOEM reviews the qualification documents of each entity indicating competitive interest. If you are submitting other information, you should submit it as described in the section entitled “Requested Information from the Public and Other Interested or Affected Parties.”

Purpose of This Request for Competitive Interest

Responses to this RFCI will enable BOEM to determine, pursuant to subsection 8(p)(3) of the OCS Lands Act, whether there is competitive interest in acquiring a commercial wind energy lease in the RFCI Area. If BOEM determines there is no competitive interest for a commercial wind energy lease, BOEM may decide to continue the research leasing process as provided in 30 CFR 585.238(d). However, if there is competitive interest in developing a commercial wind energy project within the RFCI Area, BOEM may decide to offer a commercial lease anywhere in the RFCI Area using either the competitive or non-competitive leasing process (see the “Determination of Competitive Interest and Leasing Process” section below for more details).

This notice also provides an opportunity for interested stakeholders to comment on the Research Array proposed by the State of Maine or future commercial activities in the RFCI Area, and the potential impacts of these activities. BOEM will consider all comments received when deciding whether and how to move forward with the research leasing process, competitive leasing process, or non-competitive leasing process.

This notice is issued in response to the State of Maine's proposal. This notice is not associated with the expected 2024 commercial lease sale in the Gulf of Maine identified in the Department of the Interior's Offshore Wind Leasing Path Forward 2021-2025. (https://www.boem.gov/sites/default/files/documents/renewable-energy/state-activities/OSW-Proposed-Leasing-Schedule.pdf). The next step in that process is the publication of a request for interest (RFI) for the Gulf of Maine in the Federal Register, which is being released concurrently with this notice [Docket No. BOEM-2022-0040]. The RFI specifies information that is required to be submitted by entities wishing to acquire a commercial lease within the RFI Area. If, however, in response to this RFCI, BOEM determines that competitive interest exists, BOEM may decide to include the RFCI Area in the Call for Information and Nominations issued as part of the Gulf of Maine commercial planning and leasing process that will follow the RFI.

Background

In October 2021, BOEM received an application from the State of Maine, Governor's Office of Policy Innovation and the Future, for a renewable energy research lease to accommodate an array of floating offshore wind turbines (Research Array) on the OCS offshore the coast of Maine. The application covers an area of approximately 9,700 acres located more than 20 nautical miles (nm) offshore and would consist of up to 12 floating offshore wind turbines capable of generating up to 144 megawatts (MW) of renewable energy. In June 2021, Governor Mills signed Legislative Document 336, which directs the Maine Public Utilities Commission to enter into contract negotiations for a power purchase agreement for energy generated (up to 144 MW) from the Research Array should the state's application be successful. As stated in the application, Maine has ambitious renewable energy goals and views offshore wind as an important component of its strategy to address climate change. Water depths in the Gulf of Maine will require floating offshore wind foundations, a relatively new technology. In pursuing the development of the Research Array, the state hopes to position itself as a hub for floating offshore wind development in the region, while advancing a set of informed best practices and standards for commercial-scale floating offshore wind projects in the Gulf of Maine for use in planning, permitting, and constructing commercial-scale projects in a fashion that optimizes coexistence with traditional marine users and the ecosystem.

This RFCI is published pursuant to subsection 8(p)(3) of the OCS Lands Act (43 U.S.C. 1337(p)(3)) and BOEM's implementing regulations at 30 CFR 585.231 and 585.238. Subsection 8(p)(3) of the OCS Lands Act requires OCS renewable energy leases, easements, and rights-of-way (ROW) to be issued “on a competitive basis unless the Secretary determines after public notice of a lease, easement, or right-of-way that there is no competitive interest.” This RFCI provides public notice of the proposed research area that the State of Maine requested and invites the submission of indications of competitive interest in a commercial wind energy lease within the RFCI Area. BOEM will consider the responses to this notice to determine whether competitive interest exists in any portion of the RFCI Area. This notice also requests that interested and affected parties comment and provide information about site conditions and existing and future uses of the RFCI Area that would be relevant to the proposed research activities by the State of Maine and/or other potential commercial offshore renewable wind energy projects.

Statutory Authorization

Under OCS Lands Act section 8(p)(1)(C), the Secretary of the Interior (the Secretary) may issue leases, easements, and ROWs for activities that produce or support production, transportation, or transmission of energy from sources other than oil or gas, including renewable energy sources. Section 8(p)(8) also requires the Secretary to issue any necessary regulations to carry out this authority. Regulations were issued for this purpose on April 29, 2009, and are codified in BOEM regulations at 30 CFR part 585. The Secretary has delegated the authority to issue leases, easements, and ROWs to the Director of BOEM.

State of Maine's Proposed Research Activities

The State of Maine's proposed research activities are described in its application for an OCS renewable energy research lease, which is available at the following URL: https://www.boem.gov/renewable-energy/state-activities/gulf-maine/state-maine-research-lease-application.

Over the course of approximately a year, the State of Maine completed a site identification process that included three stages. The process began with identifying an Area of Interest (approximately 492,800 acres) that considered the feasibility of grid connection and that has a minimum water depth of 150 feet for floating turbine technology at a distance of 20 to 40 miles from the coast of Maine. Second, the state conducted a series of public meetings and directed stakeholder engagement to identify a Narrowed Area of Interest (34,596 acres). Third, the state considered feedback on the Narrowed Area of Interest and bathymetric data, while setting a 16-square-mile area limit and a geometric pattern for a 12-turbine array. From those data and parameters, the state identified the preferred site for the Research Array (9,728 acres) and requested the area in its research lease application.

In reviewing the research lease application, and in coordination with other Federal agencies with trust resources and equities in the Gulf of Maine, BOEM identified a potential conflict between the location of the proposed Research Array site and the existing Traffic Separation Scheme (TSS) for maritime traffic entering and exiting the port of Portland, Maine. While the proposed Research Array is narrowly outside of the United States Coast Guard (USCG) recommended Marine Planning Guideline buffers for a TSS, prevailing traffic patterns conflict with the State of Maine's proposed site. BOEM will continue to consult with the USCG and seek additional comment from the commercial maritime industry about the proposed Research Array location and any alternative locations through this RFCI. BOEM is also including in the RFCI Area the OCS blocks that intersect with the State of Maine's previously identified “Narrowed Area of Interest” (Figure 1).

BILLING CODE 4310-MR-P

The RFCI Area is larger than the area proposed by the State of Maine and allows for the consideration of indications of competitive interest in a commercial wind energy lease or, if BOEM determines that there is no competitive interest, a research lease for a project that would avoid or minimize the potential conflicts of use associated with the TSS. In analyzing the RFCI area, BOEM has determined that only one project, approximately the size of the State of Maine's research lease proposal (i.e., no more than 10,000 acres and no more than 12 floating turbines), could be accommodated while avoiding or minimizing adverse effects on the TSS, and while allowing siting flexibility to avoid other potential conflicts that may arise (e.g., commercial fishing activity, sensitive benthic habitat). Therefore, BOEM will consider issuance of only one lease and for no more than one project that achieves the same purpose as described in the Required Information for Indication of Competitive Interest section of this RFCI, due to the potential use conflicts that the USCG has identified might arise from locating the proposed project in proximity of the TSS (either as a research lease, or, if BOEM determines competitive interest through this RFCI, as a commercial lease).

Description of the RFCI Area

The RFCI Area consists of 12 OCS blocks (each block is approximately 3 nm by 3 nm), which are identified in the following table and figure below (Table 1; Figure 2). The combined area of these blocks is approximately 68,320 acres.

Table 1—Protraction Name/Number and OCS Block Numbers of the RFCI Area
Protraction name | Protraction No. | Block No.
Bath | NK19-02 | 6613
Bath | NK19-02 | 6614
Bath | NK19-02 | 6615
Bath | NK19-02 | 6663
Bath | NK19-02 | 6664
Bath | NK19-02 | 6665
Bath | NK19-02 | 6713
Bath | NK19-02 | 6714
Bath | NK19-02 | 6715
Bath | NK19-02 | 6763
Bath | NK19-02 | 6764
Bath | NK19-02 | 6765

BILLING CODE 4310-MR-C

Required Information for Indication of Competitive Interest

If you intend to submit an indication of competitive interest for a commercial wind energy lease within the RFCI Area, you must provide the following:

1. A general description of your objectives and the facilities that you would use to achieve those objectives;

2. A general schedule of proposed activities;

3. Available and pertinent data and information concerning renewable energy resources and environmental conditions in the area that you wish to lease, including energy and resource data and information used to evaluate the area of interest. Where applicable, spatial information should be submitted in a format compatible with ArcGIS 10.8 or ArcGIS Pro 2.7 in a geographic coordinate system (NAD 83);

4. Acceptable documentation demonstrating that you are legally, technically, and financially qualified pursuant to 30 CFR 585.106-107. Qualification materials should be developed in accordance with the guidelines available at https://www.boem.gov/Renewable-Energy-Qualification-Guidelines/. If you wish to protect the confidentiality of your comments or qualification materials, clearly mark the relevant sections and request that BOEM treat them as confidential. Please label privileged or confidential information with the caption “Contains Confidential Information” and consider submitting such information as a separate attachment. Treatment of confidential information is addressed in the section of this notice entitled, “Protection of Privileged or Confidential Information.” BOEM would regard information that is not labeled as privileged or confidential as suitable for public release. For examples of documentation appropriate for demonstrating your legal qualifications and related guidance, contact Gina Best, BOEM Office of Renewable Energy Programs at gina.best@boem.gov or 703-787-1341.

5. A conceptual Research Framework—BOEM recognizes the value of research, including many of the research priorities outlined in the State of Maine's research lease application. BOEM believes that information generated from such research can be used to facilitate responsible and expeditious commercial offshore wind energy development in the Gulf of Maine, as well as the deployment of floating offshore wind technology nationwide (e.g., Pacific region). Therefore, BOEM is requesting that all indications of competitive interest in a commercial wind energy lease that is within the RFCI area include a conceptual Research Framework that describes an approach for addressing the representative research questions, topics, and priorities listed below. The conceptual Research Framework must contain sufficient detail to demonstrate an ability to design and carry out a project that addresses all of the questions and topics below (5 a-c), commensurate with the Research Framework Maine submitted to BOEM in Appendix A of its research lease application, (i.e., it must go beyond a simple commitment and provide a conceptual plan for exploring and answering the research questions and topics). You must also include a statement informing BOEM of your willingness to execute a lease instrument with research attributes, such as those described in the conceptual Research Framework, if you are awarded a commercial lease as a result of this RFCI (competitively or noncompetitively).

a. Human Dimensions, including but not limited to:

i. Evaluation of impacts to fisheries—include a description of the proposed project that would allow for study of coexistence of the proposed project with existing ocean users. Specifically address in your approach how you would evaluate the compatibility of the proposed project with various Gulf of Maine fisheries and gear types;

ii. Vessel traffic and navigation—include an approach to studying how disruptions to existing vessel traffic in the proposed project area could be avoided or minimized through wind turbine layout design, micrositing, the use of different anchor and mooring systems, etc.

iii. Socioeconomic impacts to coastal communities—include a research approach for evaluating potential impacts from the proposed project to:

1. shoreside infrastructure that supports existing ocean uses;

2. viewsheds; and

3. tourism.

iv. Infrastructure, supply chain, and workforce development—include an approach for using the information generated by or for the proposed project to evaluate:

1. workforce training and career transition requirements to allow local and state workers to take part in the assembly, fabrication, and installation of floating turbines in the Gulf of Maine long-term; and

2. port developments needed to support the proposed project, as well as larger industry development in the Gulf of Maine long-term (e.g., infrastructure to support serial manufacturing of key floating wind turbine components).

v. Proposed project cost information, including the levelized cost of energy, cost of major offshore wind components and floating wind installation costs. Analysis should include how costs compare to a project of similar size with traditional bottom foundations.

b. Ecosystem and Environment, including but not limited to:

i. The potential effects of different phases of the proposed project's development, construction, operation, and decommissioning on habitat and the behavior and life cycles of animals (e.g., target species of commercial and recreational fisheries, protected species) found within, and in proximity to, the proposed project area. Research should compare and evaluate how variations in turbine layout and technology deployment affect:

1. Changes in distribution and abundance of marine and avian species.

2. Attraction of marine and avian species.

3. Avoidance/displacement of marine and avian species.

4. Collision with marine and avian species.

5. Entanglement risk of marine mammals.

6. Hydrodynamic effects.

7. Entrainment and impingement of zooplankton.

8. Sensitive habitat disturbance.

c. Technology Development, including but not limited to:

i. Assessment of more than one type of floating foundation and consideration of which design(s) is (are):

1. Optimal for floating turbine foundation strength and stability for the intended installation and design life, considering all the possible loading conditions and other factors such as fatigue, corrosion, and marine biofouling under the meteorological ocean conditions of the area;

2. Scalable for larger turbines;

3. Readily transitioned to serial manufacturing;

4. Optimal for coexistence with other ocean users; and

5. Optimal for minimizing adverse effects to marine species and their habitat.

ii. Evaluation of different anchoring and mooring designs and materials, and assessment of which designs and/or materials:

1. Are optimal for coexistence with ocean users;

2. Are optimal for minimizing adverse effects to marine species and their habitat; and

3. Perform optimally in stress analyses with regard to strength, durability, fatigue, offsets, corrosion, and mooring line redundancy. Performance evaluation should also assess ability to mitigate and minimize interference with other structures, considering varying depths, wave, current and tidal amplitudes.

iii. Assessment of design and testing of floating turbine control systems.

iv. Assessment of subsea cables, both inter-array and export, and which designs and/or materials are optimal for:

1. Performance with respect to function, sufficient strength and fatigue resistance against loads from wave, current, soil conditions, vessel motions, etc.; and

2. Availability and resiliency of dynamic transmission cables, as well as required maintenance and options for monitoring.

v. Assessment of available monitoring technologies to detect and study required maintenance of the main components (e.g., wind turbine, floating turbine foundation, mooring and cables, fisheries impacts, interactions with protected species, etc.).

6. Research Access and Open-Source Data

a. In order to maximize the benefit of the Research Framework to the public and the advancement of the offshore wind industry, BOEM anticipates that parties who are awarded a lease in the areas contemplated by this RFCI must commit to:

i. Collaboration with researchers whose research goals align with the key themes and topics of the Research Framework, and whose field work would not compromise the safety, construction, operation, or maintenance of the offshore wind facility.

ii. Making available to the public at no cost any data relating to the Research Framework that the lessee would not otherwise designate as exempt from disclosure under Exemption 4 of the Freedom of Information Act (FOIA). BOEM would reserve the right to resolve any disputes regarding the confidentiality of data under the FOIA Exemption 4 standard.

b. BOEM may also request that any lessee share survey, performance, and operations and maintenance data that is not otherwise captured by the requirements of the Research Framework.

7. A statement that you wish to acquire a commercial wind energy lease within the RFCI Area. For BOEM to consider your indication of interest, the proposed lease area must not exceed 10,000 acres and the proposal must include a maximum of 12 wind turbine generators, all of which must have floating foundations. The indication of interest may also include a proposal to install one or more meteorological ocean facilities.

8. A description of your plan to sell power generated from your project and documentation of any past experience securing power purchase agreements.

9. A statement expressing how a project you would propose for this site would be consistent with affected states' statutes, regulations, and policies related to offshore energy and natural resource protection.

It is critical that you submit a complete indication of competitive interest so that BOEM may consider your submission in a timely manner. If BOEM reviews your submission and determines that it is incomplete, BOEM will inform you of this determination in writing. This notification will describe the information that BOEM wishes you to provide for BOEM to deem your submission complete and establish a deadline for completion, which will not be less than 15 business days from the date of BOEM's notice. If you do not meet this deadline, or if BOEM determines your second submission is also insufficient, BOEM may deem your submission invalid. In such a case, BOEM would not consider your submission.

Requested Information From the Public and Other Interested or Affected Parties

BOEM is also requesting from the public and other interested or affected parties specific and detailed comments regarding the following:

1. Research priorities and the associated justifications needed to advance floating offshore wind in the Gulf of Maine and in other areas of the OCS;

2. Geological and geophysical conditions (including bottom and shallow hazards) in the RFCI Area;

3. Known archaeological, historic, and/or cultural resource sites on the seabed in the RFCI Area;

4. Other uses of the RFCI Area, including commercial vessel usage, recreation, and commercial and recreational fisheries;

5. Potential impacts to existing communication cables;

6. Department of Defense (DoD) operational, training, and testing activities (surface and subsurface) that occur in the RFCI Area that may be impacted by research and commercial activities;

7. Impacts from potential renewable energy development on future uses of the area; and

8. Other relevant environmental and socioeconomic information.

Multiple Use Considerations

Early consultation by the State of Maine and BOEM has highlighted the following multiple use considerations:

a. Maritime Navigation

Shipping traffic occurs within the vicinity of the State of Maine's proposed Research Array and the RFCI Area. As noted above, in reviewing the State of Maine's research lease application and through coordination with USCG, BOEM identified a potential conflict between the proposed Research Array site and the existing TSS for maritime traffic entering and exiting the Port of Portland. BOEM plans to consult with the USCG and seek additional comments from the commercial maritime industry about the proposed Research Array location and RFCI Area as a whole to determine if this potential conflict can be avoided or minimized.

b. Department of Defense

DoD conducts offshore testing, training, and operations in the Atlantic OCS. BOEM would consult with DoD on any activities proposed within the RFCI Area to ensure that they are compatible with DoD activities. At the State of Maine's request, DoD conducted a review of the proposed Research Array area and provided the following requests on behalf of the Department of the Navy (Navy):

• Site the wind turbines as far east as possible in the proposed lease area to minimize encroachment upon the Navy's sea trial activities.

• Agree to the curtailment (not spinning) of the wind turbines during the Navy's sea trials. Estimated requirement for curtailment is 250 hours/year.

• Cooperate with the Navy to assess the potential for wind turbines to impact shipboard radar.

• Allow the Navy to conduct a review of the business entities involved with the proposed project to assess foreign ownership, influence, or control in order to protect defense capabilities.

Additional DoD review of the RFCI Area will be necessary, which may result in additional requests and recommendations.

c. Protected Resources

Several species of birds, marine mammals, sea turtles, and fish listed as threatened or endangered under the Endangered Species Act (ESA) may occur permanently or seasonally in the RFCI Area, including:

• Piping plover (Charadrius melodus)

• Red knot (Calidris canutus rufa)

• Roseate tern (Sterna dougallii dougallii)

• Atlantic sturgeon (Acipenser oxyriynchus oxyriynchus)

• Atlantic salmon (Salmo salar)

• Green sea turtle (Chelonia mydas)

• Kemp's ridley sea turtle (Lepidochelys kempii)

• Leatherback sea turtle (Dermochelys coriacea)

• Loggerhead sea turtle (Caretta caretta)

• North Atlantic right whale (Eubalaena glacialis) (including North Atlantic right whale critical habitat)

• Fin whale (Balaenoptera physalus)

• Sei whales (Balaenoptera borealis)

• Blue whale (Balaenoptera musculus)

• Sperm whale (Physeter macrocephalus)

Protection of such species falls within the jurisdiction of the United States Fish and Wildlife Service (USFWS) or National Oceanic and Atmospheric Administration's National Marine Fisheries Service (NMFS). In addition to ESA-listed species, the area likely contains, seasonally or permanently, seabirds protected under the Migratory Bird Treaty Act and marine mammals protected under the Marine Mammal Protection Act. BOEM will coordinate with USFWS and NMFS to avoid, minimize, and/or mitigate potential impacts to the resources under their jurisdiction.

d. Fisheries and Essential Fish Habitat

Portions of the RFCI Area are used by the commercial and recreational fishing industry, and NMFS has designated essential fish habitat (EFH) in much of the area. BOEM will consult with NMFS to identify measures to avoid and minimize impacts on EFH during the siting and installation phases of development. This notice also provides an opportunity for interested stakeholders to provide comments on the RFCI area, including information relating to potential environmental consequences from the proposed project on existing geological, geophysical, and biological (habitat and species) conditions, as well as any potential impacts to existing ocean users (e.g., fishing industry and mariners) in the RFCI Area.

Determination of Competitive Interest and Leasing Process

BOEM will evaluate indications of competitive interest in accordance with 30 CFR 585.231, including the requirements in this RFCI. Indications of competitive interest must be limited to areas wholly within the RFCI Area, must propose a project that will use floating wind turbines, and must meet the criteria set forth in the section entitled, “Required Information for Indication of Competitive Interest.” At the conclusion of the comment period for this notice, BOEM will review the submissions received to ensure that they are complete and that the submitters are qualified to hold a lease under 30 CFR 585.106-585.107, and then will determine whether competitive interest exists. As stated in the “State of Maine's Proposed Research Activities” section above, BOEM will consider issuance of one lease for no more than one project within the RFCI Area due to the potential conflicts of use that have been identified by the USCG in locating a proposed project in proximity to the TSS (either as a research lease, or, if BOEM determines there is competitive interest through this RFCI, as a commercial lease). If, in response to this RFCI, BOEM receives two or more indications of competitive interest from qualified entities that wish to develop a commercial wind energy project in the RFCI Area, BOEM may decide to move forward with the competitive lease issuance process following the procedures set forth in 30 CFR 585.211. If so, BOEM may include the RFCI Area as part of the commercial leasing process for the Gulf of Maine (see “Purpose of this Request for Competitive Interest” section above). If BOEM receives only one indication of competitive interest, it may contact the respondent and ask if they wish to proceed with acquiring a commercial lease. However, if the respondent does not wish to proceed, BOEM may determine that there is no competitive interest in the RFCI Area and publish a Federal Register notice of Determination of No Competitive Interest. At that point, after appropriate environmental review and consultation, BOEM may decide to continue with issuance of a research lease to the State of Maine using the procedures set forth in 30 CFR 585.238. If BOEM issues a research lease, the State of Maine would be required to conduct any construction and operation activities on the research lease pursuant to a BOEM-approved plan.

Regardless of whether BOEM decides to issue the research lease or to continue with the competitive lease issuance process, BOEM will consult and coordinate with relevant Federal agencies, affected Tribes, and affected state and local governments in issuing a lease; developing lease terms and conditions; and deciding whether to approve, disapprove, or approve with modifications any activities proposed on the lease.

Environmental Review and Permitting Process

Prior to issuing any lease or authorizing any construction activities on that lease, BOEM would conduct a site-specific environmental review under the National Environmental Policy Act, during which it would act as the lead agency, coordinate with cooperating or consulting Federal agencies, and provide additional opportunities for public comment. BOEM would also participate in associated consultations under the Coastal Zone Management Act, the ESA, the Magnuson-Stevens Fishery Conservation and Management Act, the National Historic Preservation Act (NHPA), Executive Order 13175, and other laws, regulations, and authorities determined necessary throughout the process.

Protection of Privileged or Confidential Information

Freedom of Information Act

BOEM will not disclose privileged or confidential information that you submit if it qualifies for FOIA exemption for trade secrets and commercial or financial information, provided that you clearly label the submission with “Contains Confidential Information” and request that BOEM treat it as confidential. Please consider submitting such information as a separate attachment.

BOEM will not treat as confidential any aggregate summaries of such information or comments not containing such confidential or privileged information. Additionally, BOEM will not treat as confidential (1) the legal title of the nominating entity (for example, the name of your company), or (2) the list of whole or partial blocks pertaining to your indication of competitive interest. Information that is not labeled as privileged or confidential will be regarded by BOEM as suitable for public release.

Personally Identifiable Information

BOEM does not consider anonymous comments; please include your name and address as part of your submittal. You should be aware that your entire comment, including your name, address, and any personally identifiable information (PII), may be made publicly available at any time. Even if BOEM withholds your information in the context of this RFCI, your submission is subject to the FOIA, and if your submission is requested under the FOIA, your information will only be withheld if a determination is made that one of the FOIA's exemptions to disclosure applies. Such a determination will be made in accordance with the Department's FOIA regulations and applicable law.

In order for BOEM to consider withholding from disclosure your PII, you must identify, in a cover letter, any information contained in the submittal of your comments that, if released, would constitute a clearly unwarranted invasion of your personal privacy. You must also briefly describe any possible harmful consequence(s) of the disclosure of information, such as embarrassment, injury, or other harm. Please do so in your transmittal letter, rather than in the comment itself. Note that BOEM will make available for public inspection, in their entirety, all comments submitted by organizations and businesses, or by individuals identifying themselves as representatives of organizations or businesses.

National Historic Preservation Act (16 U.S.C. 470w-3(a))

BOEM is required, after consultation with the Secretary, to withhold the location, character, or ownership of historic resources if it determines that disclosure may, among other things, risk harm to the historic resources or impede the use of a traditional religious site by practitioners. Tribal entities should designate information that is covered by Section 304 of the NHPA as confidential.

Amanda Lefton,
Director, Bureau of Ocean Energy Management.

[FR Doc. 2022-17922 Filed 8-18-22; 8:45 am]

BILLING CODE 4310-MR-P